DEPARTMENT OF JUSTICE

Notice of Lodging of Proposed Consent Decree Under the Comprehensive Environmental Response, Compensation, and Liability Act

On July 10, 2013 the Department of Justice filed a Complaint and simultaneously lodged a proposed Consent Decree with the United States District Court for the District of Colorado in the lawsuit entitled United States v. Jamesway Cartage, Inc., Civil Action No. 1:13-cv-01816. In its Complaint the United States seeks reimbursement of response costs incurred for response actions taken at or in connection with the release or threatened release of hazardous substances at the BioEnergy of Colorado Superfund Site located on 821 West 56th Avenue, City and Adams County, Colorado 80216. BioEnergy of Colorado, LLC, now defunct, operated a bio-diesel production facility at the Site under a lease arrangement with Jamesway Cartage, Inc., the Site owner. EPA removed low pH, caustic materials and methanol used by BioEnergy in the production of bio-fuel that had been spilled, leaked, or abandoned at the Site. Under the settlement Jamesway stipulates to entry of judgment for the full amount of EPA's past response costs, including interest ($332,801.43), and is required to sell the property within two years and pay 90% of the sales proceeds to satisfy the judgment amount. In return, the United States covenants not to sue or to take administrative action against Settling Defendant pursuant to Section 107(a) of CERCLA, 42 U.S.C. 9607(a), to recover Past Response Costs.

The publication of this notice opens a period for public comment. Comments should be addressed to the Acting Assistant Attorney General, Environment and Natural Resources Division, and should refer to United States v. Jamesway Cartage, Inc., D.J. Ref. No. DOJ #90-11-3-10524. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $6.00 (25 cents per page reproduction cost) payable to the United States Treasury.

Bob Brook,
Assistant Section Chief, Environmental Enforcement Section, Environment and Natural Resources Division.

[FR Doc. 2013-16966 Filed 7-15-13; 8:45 am]

BILLING CODE 4410-15-P